DEPARTMENT OF ENERGY

Federal Energy Regulatory Commission

Combined Notice of Filings #1

Take notice that the Commission received the following electric rate filings:

Docket Numbers: ER11-2882-001.

Applicants: ReEnergy Sterling CT Limited Partnership.

Description: ReEnergy Sterling CT Limited Partnership submits tariff filing per 35: Compliance Filing to Submit Revised Market-Based Rate Tariff to be effective 1/14/2011 under ER11-2882-001 Filing Type: 80.

Filed Date: 04/05/2011.

Accession Number: 20110405-5076.

Comment Date: 5 p.m. Eastern Time on Tuesday, April 26, 2011.

Docket Numbers: ER11-3290-000.

Applicants: American Electric Power Service Corporation, PJM Interconnection, L.L.C.

Description: American Electric Power Service Corporation submits tariff filing per 35.13(a)(2)(iii: AEPSC filed a 25th revision to the AEPSC & Buckeye ILDSA under SA No. 1336 to be effective 3/8/2011 under ER11-3290-000 Filing Type: 10.

Filed Date: 04/05/2011.

Accession Number: 20110405-5034.

Comment Date: 5 p.m. Eastern Time on Tuesday, April 26, 2011.

Docket Numbers: ER11-3291-000.

Applicants: PJM Interconnection, L.L.C.

Description: PJM Interconnection, L.L.C. submits tariff filing per 35.13(a)(2)(iii: Queue No. W4-030; Original Service Agreement No. 2804 to be effective 3/7/2011 under ER11-3291-000 Filing Type: 10.

Filed Date: 04/05/2011.

Accession Number: 20110405-5036.

Comment Date: 5 p.m. Eastern Time on Tuesday, April 26, 2011.

Docket Numbers: ER11-3292-000.

Applicants: NSTAR Electric Company.

Description: NSTAR Electric Company submits tariff filing per 35.13(a)(2)(iii: GenOn Diesels Distribution Service Agreement—Amendment to First Supplement to be effective 6/1/2011.

Filed Date: 04/05/2011.

Accession Number: 20110405-5052.

Comment Date: 5 p.m. Eastern Time on Tuesday, April 26, 2011.

Docket Numbers: ER11-3293-000.

Applicants: Southern California Edison Company.

Description: Southern California Edison Company submits tariff filing per 35.13(a)(2)(iii: Amendment to IFA and Service Agreement with PAPCO to be effective 4/16/2011.

Filed Date: 04/05/2011.

Accession Number: 20110405-5053.

Comment Date: 5 p.m. Eastern Time on Tuesday, April 26, 2011.

Docket Numbers: ER11-3294-000.

Applicants: Sempra Generation.

Description: Sempra Generation submits tariff filing per 35.13(a)(2)(iii: Revision to Sempra Generation FERC Electric MBR Tariff to be effective 4/5/2011.

Filed Date: 04/05/2011.

Accession Number: 20110405-5058.

Comment Date: 5 p.m. Eastern Time on Tuesday, April 26, 2011.

Docket Numbers: ER11-3295-000.

Applicants: El Dorado Energy, LLC.

Description: El Dorado Energy, LLC submits tariff filing per 35.13(a)(2)(iii: Revision to El Dorado Energy LLC FERC Electric MBR Tariff to be effective 4/5/2011.

Filed Date: 04/05/2011.

Accession Number: 20110405-5059.

Comment Date: 5 p.m. Eastern Time on Tuesday, April 26, 2011.

Docket Numbers: ER11-3296-000.

Applicants: Mesquite Power, LLC.

Description: Mesquite Power, LLC submits tariff filing per 35.13(a)(2)(iii: Revision to Mesquite Power LLC FERC Electric MBR Tariff to be effective 4/5/2011.

Filed Date: 04/05/2011.

Accession Number: 20110405-5060.

Comment Date: 5 p.m. Eastern Time on Tuesday, April 26, 2011.

Docket Numbers: ER11-3297-000.

Applicants: Termoelectrica U.S., LLC.

Description: Termoelectrica U.S., LLC submits tariff filing per 35.13(a)(2)(iii: Revision to Termoelectrica U.S. LLC FERC Electric MBR Tariff to be effective 4/5/2011.

Filed Date: 04/05/2011.

Accession Number: 20110405-5062.

Comment Date: 5 p.m. Eastern Time on Tuesday, April 26, 2011.

Docket Numbers: ER11-3298-000.

Applicants: Louisville Gas and Electric Company.

Description: Louisville Gas and Electric Company submits tariff filing per 35.13(a)(2)(iii: 04_05_11 Sec 205_Rev Att C to be effective 4/1/2011.

Filed Date: 04/05/2011.

Accession Number: 20110405-5075.

Comment Date: 5 p.m. Eastern Time on Tuesday, April 26, 2011.

Docket Numbers: ER11-3299-000.

Applicants: Southwest Power Pool, Inc.

Description: Southwest Power Pool, Inc. submits tariff filing per 35.13(a)(2)(iii: Submission of Change to Loss Factor for Midwest Energy, Inc. to be effective 9/1/2010.

Filed Date: 04/05/2011.

Accession Number: 20110405-5078.

Comment Date: 5 p.m. Eastern Time on Tuesday, April 26, 2011.

Docket Numbers: ER11-3300-000.

Applicants: Southern California Edison Company.

Description: Cancellation of letter agreement with First Solar for 150 MW Desert Sunlight PV 1 Project by Southern California Edison Company.

Filed Date: 04/05/2011.

Accession Number: 20110405-5094.

Comment Date: 5 p.m. Eastern Time on Tuesday, April 26, 2011.

Docket Numbers: ER11-3301-000.

Applicants: Keystone Energy Partners, LP.

Description: Keystone Energy Partners, LP submits tariff filing per 35.1: Base Line Filing to be effective 4/15/2011.

Filed Date: 04/05/2011.

Accession Number: 20110405-5100.

Comment Date: 5 p.m. Eastern Time on Tuesday, April 26, 2011.

Docket Numbers: ER11-3302-000.

Applicants: Black Hills Wyoming, LLC.

Description: Black Hills Wyoming, LLC submits tariff filing per 35.13(a)(2)(iii: Power Purchase Agreement with Cheyenne Light, Fuel and Power Co. to be effective 6/1/2011.

Filed Date: 04/05/2011.

Accession Number: 20110405-5116.

Comment Date: 5 p.m. Eastern Time on Tuesday, April 26, 2011.

Docket Numbers: ER11-3303-000.

Applicants: PacifiCorp.

Description: PacifiCorp submits tariff filing per 35.13(a)(2)(iii: Idaho Power Three Mile Knoll Cap Bank O&M Agreement to be effective 4/6/2011.

Filed Date: 04/05/2011.

Accession Number: 20110405-5118.

Comment Date: 5 p.m. Eastern Time on Tuesday, April 26, 2011.

Take notice that the Commission received the following open access transmission tariff filings:

Docket Numbers: OA08-100-004.

Applicants: Duke Energy Carolinas, LLC.

Description: Annual Penalty filing of Duke Energy Carolinas, LLC.

Filed Date: 04/05/2011.

Accession Number: 20110405-5092.

Comment Date: 5 p.m. Eastern Time on Tuesday, April 26, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: April 6, 2011.
Nathaniel J. Davis, Sr.,
Deputy Secretary.

[FR Doc. 2011-9301 Filed 4-15-11; 8:45 am]

BILLING CODE 6717-01-P